DEPARTMENT OF THE INTERIOR

National Park Service

[N6502; NPS-WASO-NAGPRA-NPS0041044; PPWOCRADN0-PCU00RP14.R50000]

Notice of Inventory Completion: Merced College, Merced, CA

AGENCY: National Park Service, Interior.

ACTION: Notice.

SUMMARY: In accordance with the Native American Graves Protection and Repatriation Act (NAGPRA), Merced College has completed an inventory of human remains and associated funerary objects and has determined that there is a cultural affiliation between the human remains and associated funerary objects and Indian Tribes or Native Hawaiian organizations in this notice.

DATES: Repatriation of the human remains and associated funerary objects in this notice may occur on or after October 14, 2025.

ADDRESSES: Send written requests for repatriation of the human remains and associated funerary objects in this notice to Jeff Buechler, Social Sciences—Stop 35, Merced College, 3600 M Street, Merced, CA 95348, email jeffrey.buechler@mccd.edu.

SUPPLEMENTARY INFORMATION: This notice is published as part of the National Park Service's administrative responsibilities under NAGPRA. The determinations in this notice are the sole responsibility of Merced College and additional information on the determinations in this notice, including the results of consultation, can be found in the inventory or related records. The National Park Service is not responsible for the determinations in this notice.

Abstract of Information Available

On an unknown date, human remains were removed from the foothills above Le Grand, most likely along White Rock Road between Le Grand and the White Rock Mine, which spans Mariposa and Merced Counties. In 2001, the human remains representing at least one individual were donated to Merced College by a private individual on behalf of Howard Egling, the son of the man who collected them. No associated funerary objects are present.

In or before September 1976, human remains, representing at least two individuals, were uncovered during agricultural operations at an unknown location labeled as the “Nelson site,” presumed to be on or near the Nelson Ranch. The Nelson Ranch straddles Mariposa and Merced Counties. No associated funerary objects are present.

Beginning in or before 1982 through at least 1987, Merced College, at the behest of the landowner, carried out surveys and excavations at CA-MER-214 along Bear Creek in Merced County. This site includes house pits, midden deposits, and hundreds of bedrock mortars. During these excavations, human remains representing at least eight individuals (including at least three adults and at least three juveniles) were removed and housed at Merced College. Of the 45 associated funerary objects listed in the records, 39 are present and accounted for in Merced College's collections, and six are currently missing or unidentifiable. The 39 present associated funerary objects are: one lot of shell beads; one lot of steatite beads; one lot of polished bone awl fragments; one lot of chert and obsidian bifacial tool fragments; one incised bone fragment; one polished bone fragment; one lot of charcoal; one possible charmstone; one lot of stone cobbles; one lot of chert, quartz, and other stone cores; one lot of quartz and other stone crystal; one lot of clay daub; one lot of modified clay daub; two bags of soil matrix flotation samples; one lot of faunal remains of bone and shell; one lot of fire-cracked rock; one lot of basalt, obsidian, quartz, and other unworked stone flakes; one lot of obsidian and quartz worked flake tools; one lot of historic glass bottle sherds; one lot of historic ceramic pottery sherds; one lot of historic square nails; one lot of other historic materials (including can lids, shell casings, metal fragments, and wire); one lot of basalt, chert, obsidian, quartz, and other stone debitage; one lot of basalt and other stone mano and metate fragments; one lot of unidentified minerals; one lot of mixed fine shell, bone, stone and other materials; one lot of oblong serpentine and other stone objects; one possible obsidian tool; one lot of red ochre fragments; one quartz and other stone pebbles; one lot of possible plant remains; one lot of possible petrified wood; one lot of chert and obsidian projectile points and point fragments; one lot of basalt, quartz, and other stone rocks; one lot of naturally-occurring shell fragments; one lot of polished stones; one lot of unknown material; and one lot of welded tuff stone. The six missing or unidentifiable associated funerary objects are: one possible stone abrading tool; one quartzite anvil; one lot of shell beads; one lot of polished bone awl fragments; one stone mano; and one lot of mano fragments.

Before or during 1970 to 1973, human remains, representing at least three individuals, were removed from a gravel pit along Bear Creek, thought to be somewhere near CA-MER-214. These include a cranium from the same or nearby location. All were brought to Merced College. No associated funerary objects are present.

In June of 1968, human remains and one associated funerary object were removed from two burials at the Cunningham Ranch site (CA-MER-92 in Merced County near the border of Mariposa County) by Charles Ostrander and Dorothy Cowper of Merced College, along with other materials from the broader site area. In the spring of 1987, additional human remains were acquired, excavated, or newly recognized by Merced College from Cunningham Ranch. The remains represent at least two individuals, one adult and one infant. All six possible associated funerary objects are currently missing or unidentifiable, including one mortar bowl; one lot of very small portable mortars; one lot of lithic debitage; one lot of mixed obsidian material and seeds; one lot of stone manos; and one lot of fire-cracked rock.

On an unknown date, human remains, representing at least one individual, were surface collected from an unrecorded site labeled “Hopeton (Gallo)”, believed to be on or near the E.J Gallo Ranch along Hopeton Gulch, west of the town of Hopeton, Merced County. No associated funerary objects are present.

On an unknown date, human remains, representing at least one individual, and associated funerary objects were removed from the surface of an unrecorded site located on the Flying M Ranch. On a later unknown date, they were brought to Merced College. The six associated funerary objects are one lot of shell beads; one lot of steatite beads; one glass bottle sherd; one lot of faunal bone; one mortar bowl fragment; and one lot of chert, quartz, and other stone lithic debitage.

In the 1940s, human remains, representing one individual, were found on private Favier family property between Mariposa Road and Le Grand Road in the city of Le Grand in Merced County. On an unknown date, the human remains were donated to Merced College by Dorothy Favier. No associated funerary objects are present.

On an unknown date or dates, human remains, representing at least four individuals, were surface collected from a site or sites labeled “Planada”, presumably near Planada in Merced County. No associated funerary objects are present.

In 1977, human remains were exposed in an irrigation ditch at the Wilson farm, CA-MER-383, along Highway 99 in the community of Lingard, Merced County. In the fall of 1977 and spring of 1978, Merced College conducted salvage excavations, recovering human remains and cultural items. Three fragments of probable human bone, representing at least one individual and possibly associated with a set of associated funerary objects, are present at Merced College. The six associated funerary objects are one lot of fired clay daub; one lot of faunal bone; one lot of lithic debitage; one obsidian projectile point tip; one lot of quartz crystalline fragments; and one lot of naturally-occurring shell.

Cultural Affiliation

Based on the information available and the results of consultation, cultural affiliation is clearly identified by the information available about the human remains and associated funerary objects described in this notice.

Determinations

Merced College has determined that:

• The human remains described in this notice represent the physical remains of 24 individuals of Native American ancestry.

• The 63 objects described in this notice are reasonably believed to have been placed intentionally with or near individual human remains at the time of death or later as part of the death rite or ceremony.

• There is a reasonable connection between the human remains described in this notice and the Bishop Paiute Tribe; Bridgeport Indian Colony; Northfork Rancheria of Mono Indians of California; Picayune Rancheria of Chukchansi Indians of California; and the Tuolumne Band of Me-Wuk Indians of the Tuolumne Rancheria of California.

Requests for Repatriation

Written requests for repatriation of the human remains and associated funerary objects in this notice must be sent to the authorized representative identified in this notice under ADDRESSES. Requests for repatriation may be submitted by:

1. Any one or more of the Indian Tribes or Native Hawaiian organizations identified in this notice and, if joined to a request from one or more of the Indian Tribes, the Southern Sierra Miwuk Nation (aka American Indian Council of Mariposa County, Inc.), a non-federally recognized Indian group.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 14, 2025. If competing requests for repatriation are received, Merced College must determine the most appropriate requestor prior to repatriation. Requests for joint repatriation of the human remains and associated funerary objects are considered a single request and not competing requests. Merced College is responsible for sending a copy of this notice to the Indian Tribes and Native Hawaiian organizations identified in this notice.

Authority: Native American Graves Protection and Repatriation Act, 25 U.S.C. 3003, and the implementing regulations, 43 CFR 10.10.

Dated: August 29, 2025.
Melanie O'Brien,
Manager, National NAGPRA Program.

[FR Doc. 2025-17612 Filed 9-11-25; 8:45 am]

BILLING CODE 4312-52-P